DEPARTMENT OF ENERGY

Federal Energy Regulatory Commission

[Docket No. EC03-14-002]

Ameren Services Company, American Transmission Systems, Incorporated, Northern Indiana Public Service Company, GridAmerica LLC, GridAmerica Holdings, Inc.; Notice of Filing

February 5, 2003.

Take notice that on January 31, 2003, GridAmerica LLC, GridAmerica Holdings, Inc., as Managing Member of GridAmerica LLC, and the GridAmerica Companies, which consist of Ameren Services Company, as agent for its electric utility affiliates Union Electric Company d/b/a AmerenUE and Central Illinois Public Service Company d/b/a AmerenCIPS, American Transmission Systems, Incorporated, a subsidiary of FirstEnergy Corp. and Northern Indiana Public Service Company, filed with the Federal Energy Regulatory Commission (Commission) a joint amendment to the request for authorization to transfer functional control over transmission facilities pursuant to section 203 of the Federal Power Act and 18 CFR part 33. The amendment is being submitted in compliance with the Commission's December 19, 2002, Order in Ameren Services Co., 101 FERC § 61,320, at P 185 (2002).

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number field to access the document. For assistance, please contact FERC Online Support at FERCOnlineSupport@ferc.gov or toll-free at (866)208-3676, or for TTY, contact (202)502-8659. Protests and interventions may be filed electronically via the Internet in lieu of paper; see 18 CFR 385.2001(a)(1)(iii) and the instructions on the Commission's Web site under the “e-Filing” link. The Commission strongly encourages electronic filings.

Comment Date: February 21, 2003.

Magalie R. Salas,
Secretary.

[FR Doc. 03-3357 Filed 2-10-03; 8:45 am]

BILLING CODE 6717-01-P